DEPARTMENT OF COMMERCE

National Oceanic and Atmospheric Administration

RIN 0648-XU50

Endangered and Threatened Species; Initiation of a 5-Year Review of the Eastern Distinct Population Segment of the Steller Sea Lion

AGENCY: National Marine Fisheries Service (NMFS), National Oceanic and Atmospheric Administration (NOAA), Commerce.

ACTION: Notice of initiation of 5-year review; request for information.

SUMMARY: NMFS announces a 5-year review of the eastern Distinct Population Segment (DPS) of the Steller Sea Lion (Eumetopias jubatus) under the Endangered Species Act of 1973, as amended (ESA). A 5-year review is a periodic process conducted to ensure that the listing classification of a species is accurate and it is based on the best scientific and commercial data available at the time of the review; therefore, we are requesting submission of any such information on the eastern DPS of the Steller Sea Lion that has become available since their last status review in 1995. Based on the results of this 5-year review, we will make the requisite finding under the ESA.

DATES: To allow us adequate time to conduct this review, we must receive your information no later than August 30, 2010. However, we will continue to accept new information about any listed species at any time.

ADDRESSES: You may submit information by any of the following methods:

• Mail: Kaja Brix, National Marine Fisheries Service, Alaska Region, Protected Resources Division, P.O. Box 21668, 709 West 9th Street, Juneau, AK 99802. .

• E-mail: kaja.brix@noaa.gov. Include the following identifier in the subject line of the e-mail: “Comments on the 5-year review for the eastern DPS of Steller sea lion.”

• Fax: 907-586-7012, attention: Kaja Brix

Information received in response to this notice and review will be available for public inspection (by appointment, during normal business hours) at the above address.

FOR FURTHER INFORMATION CONTACT: Dr. Lisa Rotterman (907-271-1692), lisa.rotterman@noaa.gov.

SUPPLEMENTARY INFORMATION:

Background

Under the ESA, a list of endangered and threatened wildlife and plant species (list) must be maintained. The list is published at 50 CFR 17.11 (for animals) and 17.12 (for plants). Section 4(c)(2)(A) of the ESA requires that we conduct a review of listed species at least once every 5 years. On the basis of such reviews under section 4(c)(2)(B), we determine whether or not any species should be removed from the list (delisted), or reclassified from endangered to threatened or from threatened to endangered. Delisting a species must be supported by the best scientific and commercial data available and only considered if such data substantiates that the species is neither endangered nor threatened for one or more of the following reasons: (1) the species is considered extinct; (2) the species is considered to be recovered; and/or (3) the original data available when the species was listed, or the interpretation of such data, were in error. Any change in federal classification would require a separate rulemaking process. The regulations (50 CFR 424.21) require that we publish a notice in the Federal Register announcing those species currently under active review. This notice announces our active review of the eastern DPS of the Steller Sea Lion (Eumetopias jubatus) currently listed as threatened.

Public Solicitation of New Information

To ensure that the 5-year review is complete and based on the best available scientific and commercial information, we are soliciting new information from the public, concerned governmental agencies, tribes, the scientific community, industry, environmental entities, and any other interested parties concerning the status of the eastern DPS of the Steller Sea Lion (Eumetopias jubatus).

Five-year reviews consider the best scientific and commercial data and all new information that has become available since the listing determination or most recent status review. Categories of requested information include the following: (A) species biology, including, but not limited to, population trends, distribution, abundance, demographics, and genetics; (B) habitat conditions, including, but not limited to, amount, distribution, and suitability; (C) conservation measures that have been implemented that benefit the species; (D) status and trends of threats; and (E) other new information, data, or corrections, including, but not limited to, taxonomic or nomenclatural changes, identification of erroneous information contained in the list, and improved analytical methods.

The eastern DPS of the Steller Sea Lion is listed as a Distinct Population Segment of a vertebrate taxon. We will also be considering application of the DPS policy for vertebrate taxa. DPS is defined in the February 7, 1996, Policy Regarding the Recognition of Distinct Vertebrate in Population Segments (61 FR 4722). For a population to be listed under the ESA as a DPS, three elements are considered: (1) the discreteness of the population segment in relation to the remainder of the species to which it belongs; (2) the significance of the population segment to the species to which it belongs; and (3) the DPS's conservation status in relation to the ESA's standards for listing (i.e., is the population segment endangered or threatened?). DPSs of vertebrate species, as well as subspecies of all listed species, may be proposed for separate reclassification or for removal from the list.

If you wish to provide information for this 5-year review, you may submit your information and materials to Kaja Brix (see ADDRESSES). Our practice is to make submissions of information, including names and home addresses of respondents, available for public review during regular business hours. Respondents may request that we withhold a respondent's identity, as allowable by law. If you wish us to withhold your name or address, you must state this request clearly at the beginning of your submission. We will not, however, consider anonymous submissions. To the extent consistent with applicable law, we will make all submissions from organizations or businesses, and from individuals identifying themselves as representatives or officials of organizations or businesses, available for public inspection in their entirety. Information and materials received will be available for public inspection, by appointment, during normal business hours (see ADDRESSES).Authority: 16 U.S.C. 1531 et seq.

Dated: June 23, 2010.
Angela Somma,
Chief, Endangered Species Division, Office of Protected Resources, National Marine Fisheries Service.

[FR Doc. 2010-15774 Filed 6-28-10; 8:45 am]

BILLING CODE 3510-22-S